DEPARTMENT OF TRANSPORTATION

Maritime Administration

[Docket Number: MARAD-2000-8518]

Requested Administrative Waiver of the Coastwise Trade Laws

AGENCY: Maritime Administration, Department of Transportation.

ACTION: Invitation for public comments on a requested administrative waiver of the Coastwise Trade Laws for the vessel REFLECTION.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR part 388 (65 FR 6905; February 11, 2000) that the issuance of the waiver will have an unduly adverse effect on a U.S.-vessel builder or a business that uses U.S.-flag vessels, a waiver will not be granted.

DATES: Submit comments on or before January 16, 2001.

ADDRESSES: Comments should refer to docket number MARAD-2000-8518. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Gordon Angell, U.S. Department of Transportation, Maritime Administration, MAR-832 Room 7201, 400 Seventh Street, SW., Washington, DC 20590. Telephone 202-366-5129.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR part 388.

Vessel Proposed for Waiver of the U.S.-Build Requirement

(1) Name of vessel and owner for which waiver is requested.

Name of vessel: REFLECTION. Owner: Gary and Roxanna Wagner D.B.A. Blue Heron Charters, Inc., a New York Corporation.

(2) Size, capacity and tonnage of vessel. According to the applicant: “REFLECTION is a cutter rig sailboat. 44′5″ LOA, 35′4″ LWL, 13′ Beam, 6′ draft, Displacement 23,400 lbs. With a keel of 10,300 lbs.”

(3) Intended use for vessel, including geographic region of intended operation and trade. According to the applicant: “We intend to engage in day and overnight charters of 6 passengers or less (OUPV). These will be of the “Black Tie” Day Sail and Custom overnight charters in the Coastal waters of the Northeast US.”

(4) Date and Place of construction and (if applicable) rebuilding. Date of construction: 1976. Place of construction: Oakhill, Ontario.

(5) A statement on the impact this waiver will have on other commercial passenger vessel operators. According to the applicant: “Sailing vessel REFLECTION will have negligible impact on activities in the Northeast as our intention is to provide service for 6 passengers or less as a day sail activity in the New Jersey/New York area waters and as an overnight “Black Tie” custom charters for 4 or less passengers. This activity will take place probably no more than four (4) or five (5) times per month. To our knowledge there is no sailing vessel making these cruises out of the Atlantic Highlands, New Jersey area. We have found only one (1) making day sails out of a New York City Harbor. Our intention is to sail out of a New Jersey location. We have found no OUPV charters running out of the Long Island Sound area sailing toward the Block Island waters. We have found no OUPV charters running out of the New Jersey area sailing toward the Cape May waters. We feel that the impact of our activities is of minimal or negligible impact to any activities currently in service in the Northeast waters of the U.S.”

(6) A statement on the impact this waiver will have on U.S. shipyards. According to the applicant: “Sailing vessel REFLECTION will be serviced by small boatworks in the northeast. Current plans are to continue with relationships currently established with the Brewer Yards in Glen Cove, New York; Carriage House in Seabright, NJ; Marine Engine Service in New Jersey; and Bock Marina in Beaufort, North Carolina. These yards permit us to work on systems ourselves and where our expertise is “short” provide professional experts in a variety of boat maintenance and service disciplines. We feel that our impact will be minimal but of a positive nature as these yards (and others we will use as the occasion arises) use U.S. domestic labor and certified service providers.”

Dated: December 12, 2000.
By Order of the Maritime Administrator.
Joel C. Richard,
Secretary, Maritime Administration.

[FR Doc. 00-32010 Filed 12-14-00; 8:45 am]

BILLING CODE 4910-81-P